DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on proposed extension of information collections. In accordance with the Paperwork Reduction Act of 1995 (44 U.S.C. 3506(c)(2)(A)), this notice seeks comments concerning the collection of State and local hazard mitigation plans required under Section 322 of the Robert T. Stafford Disaster Relief and Emergency Assistance Act (Stafford Act), 42 U.S.C. 5165.

SUPPLEMENTARY INFORMATION: This collection of information is in accordance with Section 322 of the Robert T. Stafford Disaster Relief and Emergency Assistance Act (Stafford Act or the Act), 42 U.S.C. 5165, enacted under Sec. 104 the Disaster Mitigation Act of 2000, (DMA 2000) Pub. L. 106-390. FEMA published regulations, 44 Code of Federal Regulations (CFR) part 201, that require each state, local and tribal government have in place a hazard mitigation plan in order to receive Stafford Act assistance, excluding assistance provided pursuant to emergency provisions. The plan shall include sections that describe the planning process, an assessment of the risks, a mitigation strategy, and identification of plan maintenance and updating process. The purpose of the plan requirements is to enable State, tribal and local governments to better understand the risks they face from natural hazards and to make decisions and take actions to reduce the risks from those hazards. Several revisions were published since the February 26, 2002 Interim Final Rule, including (1) to extend the date by which approved State and local mitigation plans will be required from November 1, 2003 to November 1, 2004 (October 1, 2002, 67 FR 61512), (2) to clarify the date by which local mitigation plans would be required as a condition of receiving project grant funds under the Pre-Disaster Mitigation (PDM) program (October 28, 2003, 68 FR 61368); and (3) to provide State and Indian tribal governments with a mechanism to request an extension to the date by which they must develop State Mitigation Plans as a condition of grant assistance (September 13, 2004, 69 FR 55094).

Collection of Information

Title: State/Local/Tribal Hazard Mitigations Plans—Section 322 of the Disaster Mitigation Act of 2000.

Type of Information Collection: Extension of a currently approved collection.

OMB Number: 1660-0062.

Form Numbers: None.

Abstract: This collection is in accordance with our responsibilities under 44 CFR part 201 Hazard Mitigation Planning, which requires FEMA's approval and determination of State, local and tribal eligibility for Stafford Act assistance.

Affected Public: State, local and Tribal governments.

Estimated Total Annual Burden Hours: 571,200 hours.

FEMA project/activity | Number of respondents (A) | Frequency of response (B) | Hours per response (C) | Annual burden hours (A × B × C)
State Mitigation Plan Updates | 21 | 1 | 320 | 6,720
Enhanced Mitigation Plan Updates | 3 | 1 | 160 | 480
Local Mitigation Plan Review by States | 500 | 1 | 8 | 4,000
New Local or State Mitigation Plan Development | 250 | 1 | 2,080 | 520,000
Local Mitigation Plan Updates | 250 | 1 | 160 | 40,000
Total | 1,024 | 1 | 2,728 | 571,200

Estimated Cost: The total annual estimated costs to States, territories, tribal governments and local communities for this information collection associated are $15,040,900. The costs were based on the wage rates using data from the November, 2003, U.S. Department of Labor, Bureau of Labor Statistics (BLS), Standard Occupation Classification (SOC) System for urban and regional planners (SOC Code Number 19-3051) where the mean hourly wage for urban and regional planners was $26.31 per hour. Therefore, it is estimated that $15,028,272 (571,200 hours × $26.31 per hour) in annual costs is the total cost burden for all respondents to complete this information collection.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Terry Baker for additional information. You may contact the Records Management Section for copies of the proposed collection of information at facsimile number (202) 646-3347 or e-mail address: FEMA-Information-Collections@dhs.gov.

Dated: August 16, 2005.
George S. Trotter,
Acting Branch Chief, Information Resources Management Branch, Information Technology Services Division.

[FR Doc. 05-16761 Filed 8-23-05; 8:45 am]

BILLING CODE 9110-12-P